DEPARTMENT OF THE INTERIOR

Bureau of Land Management

[WY-040-1430-EU; WYW-167299]

Notice of Realty Action; Proposed Direct Sale of Public Lands in Sweetwater County, WY

AGENCY: Bureau of Land Management, Interior.

ACTION: Notice of Realty Action.

SUMMARY: A parcel of public land totaling 12.5 acres in Sweetwater County, Wyoming, is being considered for direct sale to PacifiCorp under the provisions of the Federal Land Policy Management Act of 1976 (FLPMA) and implementing regulations contained in 43 CFR 2711.3-3(2), at no less than appraised fair market value. PacifiCorp has proposed the direct sale of these lands to accommodate expansion of the existing industrial landfill at the Jim Bridger Power Plant.

DATES: In order to ensure consideration in the environmental analysis of the proposed sale, comments must be received by August 4, 2008.

ADDRESSES: Address all comments concerning this Notice to the Field Manager, Bureau of Land Management (BLM), Rock Springs Field Office, 280 Highway 191 North, Rock Springs, Wyoming 82901.

FOR FURTHER INFORMATION CONTACT: Teri Deakins, Environmental Protection Specialist, at the above address or phone (307) 352-0211.

SUPPLEMENTARY INFORMATION: The following described public land in Sweetwater County, Wyoming, is being considered for direct sale under the authority of Section 203 of the Federal Land Policy and Management Act of 1976, (90 Stat. 2750, 43 U.S.C. 1713) and implementing regulations contained in 43 CFR 2711.3-3(2).

Sixth Principal Meridian

T. 21 N., R. 101 W.,

sec. 24, S½ SW¼ NW¼ SW¼, S½ SE¼ NW¼ SW¼, SW¼ SW¼ NE¼ SW¼

The area described contains 12.5 acres more or less.

The proposed sale is consistent with the objectives, goals and decisions of the BLM Green River Resource Management Plan, dated August 8, 1997, and the land is not required for other Federal purposes.

Conveyance of the identified public land will be subject to valid existing rights and encumbrances of record, including but not limited to rights-of-way for roads and other facilities, and those public utilities not held by PacifiCorp. Minerals will be reserved to the United States in the conveyance.

On June 18, 2008, the above described land will be segregated from appropriation under the public land laws, including the mining laws, except the sale provisions of the FLPMA. Until completion of the sale, BLM will not accept land use applications affecting the identified public land, except applications for the amendment of previously-filed right-of-way applications or existing authorizations to increase the term of the grants in accordance with 43 CFR 2807.15 and 2886.15. The segregative effect will terminate upon issuance of a patent, publication in the Federal Register of a termination of the segregation, or June 18, 2010, unless extended by the BLM State Director in accordance with 43 CFR 2711.1-2(d) prior to the termination date.

The following reservations, rights, and conditions will be included in the patent that may be issued for the above parcel of Federal land:

1. A reservation of all minerals to the United States;

2. A right-of-way thereon for ditches or canals constructed by the authority of the United States pursuant to the Act of August 30, 1890 (43 U.S.C. 945);

3. All valid existing rights of record, including those documented on the official public land records at the time of patent issuance.

Detailed information concerning the proposed land sale, including sale procedures, appraisal, planning and environmental documents, and a mineral report is available for review at the BLM, Rock Springs Field Office at the above address. Normal business hours are 7:45 a.m. to 4:30 p.m., Monday through Friday, except Federal holidays.

For a period until August 4, 2008, interested parties and the general public may submit in writing any comments concerning the land being considered for sale, including notification of any encumbrances or other claims relating to the identified land, to the Field Manager, BLM Rock Springs Field Office, at the above address. In order to ensure consideration in the environmental analysis of the proposed sale, comments must be in writing and postmarked or delivered within 45 days of the initial date of publication of this Notice. Comments received electronically, via e-mail or facsimile, will not be accepted. Before including your address, phone number, e-mail address, or other personal indentifying information in your comment, be advised that your entire comment—including your personal identifying information—may be made publicly available at any time. While you can ask us in your comment to withhold your personal identifying information from public review, we cannot guarantee that we will be able to do so. Any adverse comments will be reviewed by the State Director, who may sustain, vacate, or modify this realty action. In the absence of timely filed objections, this realty action will become the final determination of the Department of the Interior.

The land will not be offered for sale prior to August 18, 2008.

Authority: 43 CFR 2711.1-2.

Dated: May 28, 2008.
Lance C. Porter,
Field Manager.

[FR Doc. E8-13713 Filed 6-17-08; 8:45 am]

BILLING CODE 4310-22-P